ENVIRONMENTAL PROTECTION AGENCY

40 CFR Part 52

[FRL-6892-3]

Availability of Additional Information on Nitrogen Oxides Emissions From Portland Cement Kilns Under Proposed Section 110 Federal Implementation Plan Rulemaking

AGENCY: Environmental Protection Agency (EPA).

ACTION: Notice of availability.

SUMMARY: The EPA is making available to the public additional information on nitrogen oxides (NOX) emissions from portland cement kilns relating to the proposed Federal implementation plan (FIP) rulemaking. The purpose of this rulemaking is to reduce interstate transport of ozone by controlling emissions of NOX. The NOX emissions significantly contribute to violations of the national ambient air quality standards for ozone in downwind States. This document announces the availability of additional information that will be used to estimate the costs and effectiveness of controls to reduce emissions of NOX at cement kilns.

ADDRESSES: Documents relevant to this action are available for inspection at the Office of Air and Radiation Docket and Information Center (6102), Docket Nos. A-98-12 (Section 110 FIP rulemaking) and A-96-56 [NOX State implementation plan (SIP) Call rulemaking], U.S. Environmental Protection Agency, 401 M Street, room M-1500, Washington, DC 20460, telephone (202) 260-7548 between 8:00 a.m. and 5:30 p.m., Monday through Friday, excluding legal holidays. A reasonable fee may be charged for copying. Other documents related to this proposed rulemaking have been made available in electronic form at the following EPA websites: http://www.epa.gov/ttn/rto under “NOX SIP Call” and “Transport FIPs.”

FOR FURTHER INFORMATION CONTACT: General questions concerning today's action should be addressed to David Cole, Office of Air Quality Planning and Standards, Air Quality Strategies and Standards Division, MD-15, Research Triangle Park, NC, 27711, telephone (919) 541-5565, e-mail at cole.david@epa.gov. Technical questions concerning cement kiln data should be addressed to Doug Grano at telephone (919) 541-3292, e-mail at grano.doug@epa.gov.

SUPPLEMENTARY INFORMATION:

Outline

1. What is today's action?

2. How is this action related to the section 110 final NOX SIP Call final rulemaking and the proposed FIP rulemaking?

3. What information is EPA making available?

4. How is this information related to the Section 110 NOX SIP Call final rulemaking and the proposed FIP rulemaking?

5. Where can I get the information?

1. What Is Today's Action?

Today, we are making available information on emissions of NOX from portland cement kilns that could potentially be affected by a Federal action by a FIP under section 110 of the Clean Air Act. The purpose of making the information available is to ensure that we have accurate and up-to-date information to characterize the costs and effectiveness of NOX controls at cement kilns.

2. How Is This Action Related to the Section 110 Final NOX SIP Call Rulemaking and the Proposed FIP Rulemaking?

On September 24, 1998, in accordance with section 110, we issued a final rule to require 22 States and the District of Columbia to submit SIP revisions to prohibit specified amounts of emissions of NOX-one of the precursors to ozone (smog) pollution-for the purpose of reducing NOX and ozone transport across State boundaries in the eastern half of the United States. (63 FR 57356, October 27, 1998). On October 21, 1998, we proposed FIPs that may be needed if any State fails to revise its SIP to comply with the NOX SIP Call. (63 FR 56393, October 21, 1998). The FIP proposes to control NOX emissions from large stationary sources, including cement kilns. The information announced today will be used to support estimates of costs and NOX emissions reductions potential for cement kilns if we issue a FIP because a State fails to respond adequately to the NOX SIP Call.

The Section 110 NOX SIP Call Notice of Final Rulemaking and the FIP Notice of Proposed Rulemaking are contained in the rulemaking dockets. They are also currently available on EPA's website at http://www.epa.gov/ttn/rto/ under “NOX SIP Call” and “Transport FIPs.”

3. What Information Is EPA Making Available?

The new information is primarily contained in a September 19, 2000 report entitled “NOX Control Technologies for the Cement Industry,” prepared for EPA by EC/R, Incorporated. This report updates information in the “Alternative Control Techniques Document-NOX Emissions from Cement Manufacturing” (EPA-453/R-94-004), which was the primary reference used in preparing the cement kiln portion of the proposed FIP rulemaking. Updated information on uncontrolled NOX emissions from cement kilns and on the current use, effectiveness and cost of NOX controls is contained in the September 2000 report. The NOX controls discussed in this report include low NOX burners, mid-kiln firing, CemStar®, and selective noncatalytic reduction. This report was placed in the docket on September 21, 2000.

In addition, EPA is making available in the docket, by mid-October, key references cited in the EC/R report. See appendix A at the end of this notice. These references include information obtained from the portland cement industry, NOX control vendors and State and regional agencies. Also available is a document describing experience with NOX controls for cement kilns in Europe at the following website: http://eippcb.jrc.es.

4. How Is This Information Related to the Section 110 NOX SIP Call Final Rulemaking and the Proposed FIP Rulemaking?

The EPA believes this information is helpful in determining the costs and effectiveness of NOX controls, including controls proposed in the FIP. The FIP proposed to require installation and operation of low-NOX burners, mid-kiln firing, or “alternative control techniques,” subject to approval by EPA, that achieve at least the same 30 percent emissions decrease as low-NOX burners or mid-kiln firing (63 FR 56416, October 21, 1998). The proposal listed emission rates for each type of kiln that would be considered to meet the “alternative control techniques” test.

New information in the September 2000 EC/R report identifies certain NOX control techniques that should also be considered “alternative control techniques” because they are expected to achieve, on average, at least a 30 percent emissions decrease. Those techniques are described in chapter 5 of the EC/R report and are as follows: CemStar®, low-NOX precalciner, tire-derived fuel at a preheater or precalciner, and selective non-catalytic reduction, including biosolids injection.

5. Where Can I Get the Information?

The EC/R report is available on the Regional Transport of Ozone (RTO) website at http://www.epa.gov/ttn/rto/. You will find links to the data under “What's New” and under the “Related Documents and Data” subheadings under the “Transport FIPs” and “NOX SIP Call” headings. In addition, the report and key references are in Docket No. A-98-12 (section 110 FIP rulemaking).

Dated: October 19, 2000.
Robert D. Brenner,
Acting Assistant Administrator for Air and Radiation.

Appendix A—Key References for Cement Kiln Report

1. Andover Technology Partners. NOX Reduction from Cement Kilns Using the CemStar® Process, Evaluation of CemStar® Technology—Final Report to Texas Industries. Dallas, Texas. April 18, 2000.

2. Letter and attachments from M.H. Vaccaro, Pillard Combustion Equipment and Control Systems, to G.J. Hawkins, Portland Cement Association, re: Low NOX Rotaflam® burner, dated January 20, 1999.

3. PSM International, “Response to USEPA Comments, 13 September 1995, on the proposed alternative NOX RACT for a portland cement manufacturing plant located in Thomaston, Maine and owned by Dragon Products Company,” Jan 31, 1996.

4. Battye, R., and S. Edgerton, EC/R Incorporated. “December 2, 1999 Trip Report to Mitsubishi Cement Corporation, Cushenbury Plant.” Lucerne Valley, CA. Submitted to Dave Sanders, US EPA, under contract No. 68-D-98-026, work assignment No. 2-28. August 31, 2000.

5. Shumway, D.C. “Tire Derived Fuel at Mitsubishi Cement Corporation.” Received during December 2, 1999 visit to Mitsubishi.

6. Shumway, D.C. Mitsubishi Cement Corporation's Cushenbury Plant presented at the IEEE West Coast Cement Industry Conference. Victorville, CA. Oct 1995.

7. Cadence Environmental Energy and Ash Grove Cement. “Mid-Kiln Fuel Entry Benefits,” section 3 of the report, Emission, Reduction, Technology: Resource Conservation & Recovery. (no date).

8. Letter from Edgerton, S. and T. Stobert, EC/R Inc., to Bill Neuffer, EPA, Feb 8, 2000. Minutes from Dec 16, 1999 meeting with representatives from EPA and Cadence.

9. May, M. and L. Walters, Jr. “Low NOX & Tire-derived Fuel for the Reduction of NOX from the Portland Cement Manufacturing Process.” Cement Americas, August 1999, pp. 10-1.

10. Letter and attachments from Bramble, Kim, Cadence, to Bill Neuffer, USEPA, re: NOX Emission Reducing Technology, dated Feb 14, 2000.

11. Radian Corporation, “MDE Air Permit Test Report for Lehigh Portland Cement Company, Union Bridge, Maryland Facility,” January 1996.

12. Lin, M.L., and M.J. Knenlein, Fuel Tech, Inc. Cement Kiln NOX Reduction Experience Using the NOXOUT® Process. Proceedings of 2000 International Joint Power Generation Conference, Miami Beach, FL., July 23-26, 2000.

13. Biggs, H.O., Plant Manager, Mitsubishi Cement Corporation. Biosolids Injection Technology: An Innovation in Cement Kiln NOX Control. (no date). Received during December 1999 trip report.

14. Sun, et.al. Reduction of NOX Emissions from Cement Kiln/ Calciner through the Use of the NOXOUT® Process. Presented at the International Specialty Conference on Waste Combustion in Boilers and Industrial Furnaces. Kansas City, MO. April 1994.

15. Interoffice Correspondence from McAnany, L. to Knopfel, H., LaFarge Corporation. October 26, 1998. re: Fuel Tech NOXOUT® Testing.

16. Letter with attachments from Bramble, K.J., Cadence Environmental Energy Inc., Michigan City, IN, to W. Neuffer, U.S. EPA, RTP, NC. January 20, 2000. Cost of a mid-kiln firing system.

17. Electronic mail from Joe Truini, Waste News to Lee-Greco, J., EC/R Incorporated, Durham, NC. July 28, 2000. Average tire tipping fees.

18. Telecon. Neuffer, W., US EPA, Durham, NC and Mayes, G., TAI, Dallas, TX. March 24, 2000. Information on the CemStar® Process.

19. Telecons. Lee-Greco, J., EC/R Incorporated, Durham, NC and Mayes, G., TAI, Dallas, TX. July 20 and 28, 2000. Additional information on the costs of installing CemStar®.

20. Electronic mail and telecon. Vaccaro, M., Pillard E.G.C.I., Marseille, France with Lee-Greco, J., EC/R Incorporated, Durham, NC. July 26, 2000. Costs of low-NOX burners.

21. Letter and attachments from Bennett, J.H., California Portland Cement, Glendora, CA to Neuffer, W.J., U.S. EPA, RTP, NC. July 2, 1999. Cost of firing system conversion.

22. PSM International, Inc. Available Control Techniques for NOX Emissions from the Portland Cement Manufacturing Plant of California Portland Cement Company located in Colton, California. Prepared by PSM International, Inc., Dallas, Texas for California Portland Cement, Glendora, CA. March 6, 1995. Heat input for Colton Plant kilns. p.12.

23. Battye, R., EC/R Incorporated, Chapel Hill, NC. Trip Report to California Portland Cement Company, Colton Plant, Colton, CA, December 2, 1999. Prepared for the U.S. EPA, RTP, NC, under contract No. 68-D-98-026, work assignment No. 2-28. August 16, 2000.

24. Telecon. Lee-Greco, J., EC/R Incorporated, Durham, NC and Knenlein, M.J., Fuel Tech, Inc. August 17, 2000. Additional cost information for NOXOUT® process.

25. Letter and attachments from Six, E.B., Spencer Fan Britt & Browne LLP, Kansas City, MO to P. Hamlin, Iowa Department of Natural Resources, Urbandale, IA. Lafarge Corporation Draft Construction Permit for Air Emission Source Plant # 82-01-006, project # 96-494. March 10, 1999. Attachment E—SNCR Data Analysis.

[FR Doc. 00-27582 Filed 10-25-00; 8:45 am]

BILLING CODE 6560-50-P